DEPARTMENT OF HEALTH AND HUMAN SERVICES

Health Resources and Services Administration

Advisory Committee; Notice of Meeting

In accordance with section 10(a)(2) of the Federal Advisory Committee Act, (Pub. L. 92-463), announcement is made of the following National Advisory Committee scheduled to meet during the month of June 2002.

Name: Advisory Committee on Interdisciplinary, Community-Based Linkages.

Date and Time: June 24, 2002, 8:30 a.m.-5 p.m., June 25, 2002, 8 a.m.-4 p.m.

Place: The Doubletree Hotel, 1750 Rockville Pike, Rockville, Maryland 20852.

The meeting is open to the public.

Agenda items will include, but not be limited to: Welcome; plenary discussion of the role of the grant programs under Title VII, Part D, Public Health Service Act in meeting Public Health Preparedness objectives; status reports on the FY 2002 grant awards for the Area Health Education Centers, Health Education and Training Centers, Geriatric Education and Training Programs, Quentin N. Burdick Programs for Rural Interdisciplinary Training, Allied Health, Psychology, Chiropractic and Podiatric Medicine programs; report on the Multidisciplinary Summit: Changing Health Professions Education and Practice—A Focus on Quality for the 21st Century; presentations by speakers representing: the Division of State, Community and Public Health, Bureau of Health Professions, Health Resources and Services Administration; and Committee members. Meeting content will address the preparation of the Committee's annual report to the Secretary and the Congress and the scheduling of topics for the next Committee meeting in August 2002.

Public comment will be permitted before lunch and at the end of the Committee meeting on June 25, 2002. Oral presentations will be limited to 5 minutes per public speaker. Persons interested in providing an oral presentation should submit a written request, with a copy of their presentation to: Bernice A. Parlak, Executive Secretary, Division of State, Community, and Public Health, Bureau of Health Professions, Health Resources and Services Administration, Room 9-105, 5600 Fishers Lane, Rockville, Maryland 20857, Telephone (301) 443-1898.

Requests should contain the name, address, telephone number, and any business or professional affiliation of the person desiring to make an oral presentation. Groups having similar interests are requested to combine their comments and present them through a single representative. The Division of State, Community and Public Health will notify each presenter by mail or telephone of their assigned presentation time.

Persons who do not file a request in advance for a presentation, but wish to make an oral statement may register to do so at the Doubletree Hotel, Rockville, Maryland on June 24, 2002. These persons will be allocated time as the Committee meeting agenda permits.

Anyone requiring information regarding the Committee should contact Bernice A. Parlak, Division of State, Community, and Public Health, Bureau of Health Professions, Health Resources and Services Administration, Room 9-105,5600 Fishers Lane, Rockville, Maryland 20857, Telephone (301) 443-1898.

Proposed agenda items are subject to change as priorities dictate.

Dated: May 21, 2002.
Jane M. Harrison,
Director, Division of Policy Review and Coordination.

[FR Doc. 02-13165 Filed 5-23-02; 8:45 am]

BILLING CODE 4165-15-P